DEPARTMENT OF COMMERCE

Foreign-Trade Zones Board

[Order No. 1362]

Grant of Authority for Subzone Status, Mitsubishi Electric Power Products, Inc., (Circuit Breakers), Warrendale and Freedom, PA

Pursuant to its authority under the Foreign-Trade Zones Act of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board (the Board) to grant to qualified corporations the privilege of establishing foreign-trade zones in or adjacent to U.S. Customs ports of entry;

Whereas, the Board's regulations (15 CFR part 400) provide for the establishment of special-purpose subzones when existing zone facilities cannot serve the specific use involved, and when the activity results in a significant public benefit and is in the public interest;

Whereas, the Regional Industrial Development Corporation of Southwestern Pennsylvania, grantee of Foreign-Trade Zone 33, has made application for authority to establish special-purpose subzone status at the circuit breaker manufacturing facilities of Mitsubishi Electric Power Products, Inc. (MEPPI), located in Warrendale and Freedom, Pennsylvania (FTZ Docket 35-2003, filed 7-16-2003);

Whereas, the application was amended on January 20, 2004, to expand the list of foreign-sourced components to be included within the scope of authority;

Whereas, notice inviting public comment was given in the Federal Register (68 FR 44281, 7-28-2003; 69 FR 8379, 2-24-2004); and,

Whereas, the Board adopts the findings and recommendations of the examiner's report, and finds that the requirements of the FTZ Act and Board's regulations are satisfied, and that approval of the application, as amended, is in the public interest;

Now, therefore, the Board hereby grants authority for subzone status at the circuit breaker manufacturing facilities of Mitsubishi Electric Power Products, Inc., located in Warrendale and Freedom, Pennsylvania (Subzone 33D), at the locations described in the application, subject to the FTZ Act and the Board's regulations, including section 400.28.

Signed in Washington, DC, this 15th day of December, 2004.
James J. Jochum,
Assistant Secretary of Commerce for Import Administration, Alternate Chairman, Foreign-Trade Zones Board.
Attest:
Dennis Puccinelli,
Executive Secretary.

[FR Doc. 04-28435 Filed 12-28-04; 8:45 am]

BILLING CODE 3510-DS-P